DEPARTMENT OF LABOR

Office of the Secretary

Submission for OMB Review: Comment Request

February 15, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer for the Employee Benefits Security Administration (EBSA), Office of Management and Budget, Room 10235, Washington, DC 20503, Telephone: 202-395-7316 / Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension without change of currently approved collection.

Title: Employee Benefit Plan Claims Procedure Under ERISA.

OMB Number: 1210-0053.

Type of Response: Third party disclosure.

Affected Public: Private Sector: Business or other for-profits and Not-for-profit institutions.

Estimated Number of Respondents: 5,900,000.

Estimated Number of Annual Responses: 320,999,996.

Estimated Total Burden Hours: 529,000.

Estimated Total Annualized Capital/Startup Costs: $0.

Estimated Total Annual Costs (operating/maintaining systems or purchasing services): $423,051,994.

Description: Section 503 of the Employee Retirement Income Security Act of 1974 and the Department's regulations at 29 CFR 2560.503-1 require employee benefit plans to establish procedures for resolving benefit claims under the plan, including initial claims and appeal of denied claims. The regulation requires specific information to be disclosed at different stages of the claims process. It also requires claims denial notices to be provided within specific time frames and to include specific information.

Agency: Employee Benefits Security Administration.

Type of Review: Extension without change of currently approved collection.

Title: PTE 80-83—Sale of Securities to Reduce Indebtedness of Party in Interest.

OMB Number: 1210-0064.

Type of Response: Recordkeeping.

Affected Public: Private Sector: Business or other for-profits.

Estimated Number of Respondents: 25.

Estimated Number of Annual Responses: 25.

Estimated Total Burden Hours: 2.

Estimated Total Annualized Capital/Startup Costs: $0.

Estimated Total Annual Costs (operating/maintaining systems or purchasing services): $0.

Description: Section 408(a) of the Employee Retirement Income Security Act of 1974 authorizes the Secretary of Labor “to grant a conditional or unconditional exemption of any fiduciary or class of fiduciaries or transactions, from all or part of the restrictions imposed by section 406 and 407(a).” In order to grant such exemptions under 408(a), however, the Secretary must determine that the exemption is administratively feasible, in the interest of the plan and its participants and beneficiaries, and protects the rights of participants and beneficiaries. To insure the exemption is not abused, that the rights of participants and beneficiaries are protected, and that compliance with exemption's conditions is taking place, the Department often requires minimal information collection pertaining to the exempted transactions.

Agency: Employee Benefits Security Administration.

Type of Review: Extension without change of currently approved collection.

Title: Prohibited Transaction Class Exemption 75-1 Security Transactions with Broker-Dealers, Reporting Dealers and Banks.

OMB Number: 1210-0092.

Type of Response: Recordkeeping.

Affected Public: Private Sector: Business or other for-profits.

Estimated Number of Respondents: 9,752.

Estimated Number of Annual Responses: 9,750.

Estimated Total Burden Hours: 1,625.

Estimated Total Annualized Capital/Startup Costs: $0.

Estimated Total Annual Costs (operating/maintaining systems or purchasing services): $0.

Description: This class exemption from the prohibited transaction provisions of the Employee Retirement Income Security Act of 1974 permits certain banks, registered broker-dealers, and reporting dealers in government securities who are parties in interest to employee benefit plans to engage in specified kinds of securities transactions with the plans.

Agency: Employee Benefits Security Administration.

Type of Review: Extension without change of currently approved collection.

Title: Petition for Finding Under Section 3(40) of ERISA.

OMB Number: 1210-0119.

Type of Response: Reporting.

Affected Public: Private Sector: Business or other for-profits.

Estimated Number of Respondents: 45.

Estimated Number of Annual Responses: 45.

Estimated Total Burden Hours: 0.

Estimated Total Annualized capital/startup costs: $0.

Estimated Total Annual Costs (operating/maintaining systems or purchasing services): $120,420.

Description: The Department's regulations at 29 CFR 2570.150 et seq. provide procedures for an entity against whom state jurisdiction has been asserts to petition the Secretary to make a finding under section 3(40)(A)(i) of ERISA that the entity is established or maintained under or pursuant to one or more collective bargaining agreements. The regulations establish procedures for initiating an administrative proceeding before the Office of Administrative Law Judges (ALJs) and establish that an ALJ's decision shall constitute a finding under section 3(40)(A)(i) of ERISA. The regulations also provide for an appeal of an ALJ decision to the Secretary.

Agency: Employee Benefits Security Administration.

Type of Review: New collection (Request for a new OMB control number).

Title: HDCI 2 Survey of Group Health Plans.

OMB Number: 1210-0NEW.

Type of Response: Reporting.

Affected Public: Private Sector: Business or other for-profits.

Estimated Number of Respondents: 5,000.

Estimated Number of Annual Responses: 5,000.

Estimated Total Burden Hours: 417.

Estimated Total Annualized capital/startup costs: $0.

Estimated Total Annual Costs (operating/maintaining systems or purchasing services): $0.

Description: EBSA exercises delegated authority under ERISA to protect workers' pensions and group health benefits and has issued regulations under Part 7, codified at 29 CFR 2590.701-1 et seq., to effectuate these rights and provide guidance to affected group health plans pertaining to a number of laws applicable to group health plans, including Health Insurance Portability and Accountability Act of 1996 (HIPAA), the Newborns' and Mothers' Health Protection Act of 1996, the Mental Health Parity Act of 1996, and the Women's Health and Cancer Rights Act of 1998. In 2001, EBSA conducted a program to increase compliance with these laws, the Health Disclosure and Clainms.

Issues: Fiscal Year 2001 Compliance Project (HDCI). EBSA is now planning to conduct a follow-up program to assess the effectiveness of its compliance assistance efforts that will involve the examination of a number and variety of group health plans that is sufficient to constitute a representative sample of existing plans from which EBSA can extrapolate compliance rates for group health plans in general. However, in order to make its assessment meaningful, EBSA must first identify ERISA-covered single-employer group health plans in two groups: (1) Plans sponsored by firms with 3-99 employees, and (2) plans sponsored by firms with 100 or more employees. EBSA intends to conduct a narrow-scope, one-time telephone survey of business firms in order to identify a representative sample of large and small group health plans sponsored by private-sector employers. The agency intends to ask each firm a limited number of questions designed to determine whether the firm sponsors a group health plan covered by Title I of ERISA and how many employees are covered under the plan.

Darrin A. King,
Acting Departmental Clearance Officer.

[FR Doc. E7-2895 Filed 2-21-07; 8:45 am]

BILLING CODE 4510-29-P